DEPARTMENT OF JUSTICE

Notice of Lodging of Consent Decree Under the Comprehensive Environmental Response, Compensation and Liability Act

Notice is hereby given that on January 27, 2010, a proposed Consent Decree in United States et al. v. Chevron U.S.A. Inc., Civil Action No. 10-cv-00375-EMC was lodged with the United States District Court for the Northern District of California.

The Consent Decree settles claims for natural resource damages under the Comprehensive Environmental Response, Compensation and Liability Act, 42 U.S.C. 9601 et seq., and certain state law claims, that arose in connection with historic discharges of hazardous substances into Castro Cove from a refinery owned by Chevron U.S.A. Inc. which is located in Richmond, California. Under the Consent Decree, the defendant will pay $2,850,000 jointly to the state and federal natural resource trustees for natural resource damages and will pay the natural resource trustees for any unreimbursed assessment costs incurred by the State and Federal natural resource trustees.

The Department of Justice will receive for a period of thirty (30) days from the date of this publication comments relating to the Proposed Consent Decree. Comments should be addressed to the Assistant Attorney General, Environment and Natural Resources Division, and either e-mailed to pubcomment-ees.enrd@usdoj.gov or mailed to U.S. Department of Justice, P.O. Box 7611, Washington, DC 20044-7611, and should refer to United States et al. v. Chevron U.S.A. Inc., D.J. Ref. # 90-11-3-09726.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-2567 Filed 2-5-10; 8:45 am]

BILLING CODE 4410-15-P